DEPARTMENT OF VETERANS AFFAIRS

Advisory Committee on Former Prisoners of War; Notice of Meeting

The Department of Veterans Affairs (VA) gives notice under Public Law 92-463 (Federal Advisory Committee Act) that the Advisory Committee on Former Prisoners of War (FPOW) has scheduled a meeting on April 27-29, 2015, at Hamilton Crowne Plaza, 1401 K Street, NW., Washington, DC. The meeting will be held from 9:00 a.m. to 4:00 p.m. and is open to the public.

In exceptional circumstances, the agency may give less than 15 calendar days notice, provided that the reasons for doing so are included in the advisory committee meeting notice published in the Federal Register. 41 CFR 102-3.150. In this case, a new Designated Federal Officer, unfamiliar with the procedures, failed to prepare the notice in time. The meeting has already been scheduled, and travel plans have been made. Rescheduling will thus be expensive and delay the work of the Committee. We believe that this is sufficient exceptional circumstances for giving less than 15 calendar days notice.

The purpose of the Committee is to advise the Secretary of VA on the administration of benefits under title 38, United States Code, for Veterans who are FPOWs. The committee also makes recommendations on the needs of FPOW Veterans for compensation, health care, and rehabilitation.

On Tuesday, April 28, the Committee will hear from its Chairman and will receive briefings by VA management, as well as representatives from the Veterans Benefits Administration (VBA) and the Veterans Health Administration. Annual ethics training will be presented by the Office of General Counsel. The Associate Chief Consultant of Mental Health Disaster Response and Post-Deployment Activities and a learning consultant from the Cleveland Center Employee Education System will report on the FPOW training agenda. A Chief from VBA's Benefits Assistance Service will report on FPOW outreach efforts.

Also on April 28, the Committee will host an open public forum and FPOW panel, at 3:30 p.m. to gain information from FPOWs about their experiences, issues, and recommendations for health benefits and claims processing.

On Wednesday, April 29, the Committee will draft their 2015 recommendations and decide the location of their next meeting in the fall.

FPOWs who wish to speak at the public forum are invited to submit a 1-2 page summary of their comments at the end of the meeting for inclusion in the official meeting record. Members of the public may also submit written statements for the Committee's review to Mr. Eric Robinson, Designated Federal Officer, Advisory Committee on Former Prisoners of War, Compensation Service (212), Department of Veterans Affairs, 810 Vermont Avenue NW., Washington, DC 20420, or via email at eric.robinson3@va.gov.

Any member of the public seeking additional information should contact Mr. Robinson via email or call (202) 443-6016.

Dated: April 13, 2015.
Jelessa Burney,
Federal Advisory Committee Management Officer.

[FR Doc. 2015-08753 Filed 4-14-15; 8:45 am]

BILLING CODE P